DEPARTMENT OF DEFENSE

Office of the Secretary

Defense Science Board; Notice of Federal Advisory Committee Meetings

AGENCY: Under Secretary of Defense for Research and Engineering (USD(R&E)), Department of Defense (DoD).

ACTION: Notice of Federal advisory committee meetings.

SUMMARY: The DoD is publishing this notice to announce that the following Federal Advisory Committee meetings of the Defense Science Board (DSB) will take place.

DATES: Closed to the public Wednesday, June 26, 2024 from 8 a.m. to 5 p.m.; closed to the public Thursday, June 27, 2024 from 8 a.m. to 4 p.m.; closed to the public Wednesday, July 24, 2024 from 8 a.m. to 5 p.m.; closed to the public Thursday, July 25, 2024 from 8 a.m. to 4 p.m.

ADDRESSES: The address of the closed meetings is 4075 Wilson Blvd., Suite 300, Arlington, VA 22203.

FOR FURTHER INFORMATION CONTACT: Ms. Elizabeth J. Kowalski, Designated Federal Officer (DFO): (703) 571-0081 (Voice), (703) 697-1860 (Facsimile), elizabeth.j.kowalski.civ@mail.mil, (Email). Mailing address is Defense Science Board, 3140 Defense Pentagon, Washington, DC 20301-3140. Website: http://www.acq.osd.mil/dsb/. The most up-to-date changes to the meeting agenda can be found on the website.

SUPPLEMENTARY INFORMATION: These meetings are being held under the provisions of chapter 10 of title 5, United States Code (U.S.C.) (commonly known as the “Federal Advisory Committee Act” or “FACA”), 5 U.S.C. 552b (commonly known as the “Government in the Sunshine Act”), and sections 102-3.140 and 102-3.150 of title 41, Code of Federal Regulations (CFR).

Purpose of the Meetings: The mission of the DSB is to provide independent advice and recommendations on matters relating to the DoD's scientific and technical enterprise. The objective of the meeting is to obtain, review, and evaluate classified information related to the DSB's mission. DSB membership will discuss the 2024 DSB Summer Study on Advanced Capabilities for Potential Future Conflict and classified strategies for continued development of symmetric and asymmetric capabilities.

Agenda: The meeting will begin on Wednesday, June 26, 2024 at 8 a.m. Ms. Betsy Kowalski, DSB DFO, and Dr. Eric Evans, DSB Chair, will provide opening remarks and a classified overview of the objectives of the 2024 Summer Study on Advanced Capabilities for Potential Future Conflict. Next, the DSB will meet to discuss classified strategies that best enable DoD's continued development of symmetric and asymmetric capabilities that will characterize future conflicts, including periodic breaks. The meeting will adjourn at 5 p.m. On Thursday, June 27, 2024, starting at 8 a.m., the DSB will continue to meet to discuss classified strategies that best enable DoD's continued development of symmetric and asymmetric capabilities that will characterize future conflicts, including periodic breaks. The meeting will adjourn at 4 p.m. On Wednesday, July 24, 2024, the meeting will begin at 8 a.m. Ms. Betsy Kowalski, DSB DFO, and Dr. Eric Evans, DSB Chair, will provide opening remarks and a classified overview of the objectives of the 2024 Summer Study on Advanced Capabilities for Potential Future Conflict. Next, the DSB will meet to discuss classified strategies that best enable DoD's continued development of symmetric and asymmetric capabilities that will characterize future conflicts, including periodic breaks. The meeting will adjourn at 5 p.m. On Thursday, July 25, 2024, starting at 8 a.m., the DSB will continue to meet to discuss classified strategies that best enable DoD's continued development of symmetric and asymmetric capabilities that will characterize future conflicts, including periodic breaks. The meeting will adjourn at 4 p.m.

Meeting Accessibility: In accordance with 5 U.S.C. 1009(d) and 41 CFR 102-3.155, the DoD has determined that the DSB meetings will be closed to the public. Specifically, the USD(R&E), in consultation with the DoD Office of the General Counsel, has determined in writing that the meetings will be closed to the public because they will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meetings to be open to the public would preclude discussion of such matters and would greatly diminish the ultimate utility of the DSB's findings and recommendations to the Secretary of Defense and to the USD(R&E).

Written Statements: In accordance with 5 U.S.C. 1009(a)(3) and 41 CFR 102-3.105(j) and 102-3.140, interested persons may submit a written statement for consideration by the DSB at any time regarding its mission or in response to the stated agenda of a planned meeting. Individuals submitting a written statement must submit their statement to the DSB DFO at the email address provided in the FOR FURTHER INFORMATION CONTACT section at any point; however, if a written statement is not received at least three calendar days prior to a meeting, which is the subject of this notice, then it may not be provided to or considered by the DSB until a later date.

Dated: April 26, 2024.
Aaron T. Siegel,
Alternate OSD Federal Register Liaison Officer, Department of Defense.

[FR Doc. 2024-09571 Filed 5-1-24; 8:45 am]

BILLING CODE 6001-FR-P